SMALL BUSINESS ADMINISTRATION

[License No. 02/02-0663]

PennantPark SBIC II, LP; Surrender of License of Small Business Investment Company

Pursuant to the authority granted to the United States Small Business Administration under the Small Business Investment Act of 1958, as amended, under Section 309 of the Act and section 107.1900 of the Code of Federal Regulations to function as a small business investment company under the Small Business Investment Company License No. 02/02-0663 issued to PennantPark SBIC II, LP, said license is hereby declared null and void.

Bailey DeVries,
Associate Administrator, Office of Investment and Innovation, United States Small Business Administration.

[FR Doc. 2023-08730 Filed 4-25-23; 8:45 am]

BILLING CODE P